DEPARTMENT OF LABOR

Employment and Training Administration

[TA-W-37,279]

Sterling Diagnostic Imaging, Inc., Now Known as Agfa Corporation, Brevard, North Carolina; Amended Certification Regarding Eligibility To Apply for Worker Adjustment Assistance

In accordance with Section 223 of the Trade Act of 1974 (19 U.S.C. 2273) the Department of Labor issued a Certification of Eligibility To Apply for Worker Adjustment Assistance on March 22, 2000, applicable to workers of Sterling Diagnostic Imaging, Inc., Brevard, North Carolina. The notice was published in the Federal Register on April 21, 2000 (65 FR 21474).

At the request of the company, the Department reviewed the certification for workers of the subject firm. The workers are engaged in the production of medical X-ray film and the polyester base chemicals used in its manufacture. The company reports that in May, 1999, Agfa Corporation purchased Sterling Diagnostic Imaging, Inc. and became known as Agfa Corporation.

Information also shows that workers separated from employment at the subject firm, had their wages reported under a separate unemployment insurance (UI) tax account for Agfa Corporation.

Accordingly, the Department is amending the certification determination to properly reflect this matter.

The intent of the Department's certification is to include all workers of Sterling Diagnostic Imaging, Inc., now known as Agfa Corporation who were adversely affected by increased imports.

The amended notice applicable to TA-W-37,279 is hereby issued as follows:

All workers of Sterling Diagnostic Imaging, Inc., now known as Agfa Corporation, Brevard, North Carolina who became totally or partially separated from employment on or after January 6, 1999, through March 22, 2002, are eligible to apply for adjustment assistance under Section 223 of the Trade Act of 1974.

Signed at Washington, DC, this 8th day of August, 2001.
Linda G. Poole,
Certifying Officer, Division of Trade Adjustment Assistance.

[FR Doc. 01-21318 Filed 8-22-01; 8:45 am]

BILLING CODE 4510-30-M